DEPARTMENT OF HEALTH AND HUMAN SERVICES

National Institutes of Health

Office of the Director, National Institutes of Health; Amended Notice of Meeting

Notice is hereby given of a change in the meeting of the Office of AIDS Research Advisory Council, November 7, 2019 from 8:30 a.m. to 4:30 p.m., National Institutes of Health, 5601 Fishers Lane, Room 1D13, Rockville, MD 20852 which was published in the Federal Register on February 15, 2019, 84 FR 4495.

This meeting notice is amended to change the meeting date from November 7, 2019 to October 28, 2019 at the National Institutes of Health, 5601 Fishers Lane, Room 1D13, Rockville, MD 20852. The meeting is open to the public.

Dated: October 10, 2019.
Tyeshia M. Roberson,
Program Analyst, Office of Federal Advisory Committee Policy.

[FR Doc. 2019-22571 Filed 10-16-19; 8:45 am]

BILLING CODE 4140-01-P